DEPARTMENT OF AGRICULTURE

Rural Housing Service

7 CFR Part 3555

RIN 0575-AD00

Single Family Housing Guaranteed Loan Program

Correction

Rule document 2016-07049, beginning on page 17361 in the issue of Tuesday, March 29, 2016, was inadvertently published and is withdrawn from that issue.

[FR Doc. C1-2016-07049 Filed 3-29-16; 4:15 pm]

BILLING CODE 1505-01-D